DEPARTMENT OF ENERGY

Federal Energy Regulatory Commission

Combined Notice of Filings #2

Take notice that the Commission received the following electric rate filings:

Docket Numbers: ER10-2394-001; ER10-2395-001; ER10-2422-001.

Applicants: BIV Generation Company, L.L.C., Colorado Power Partners, Rocky Mountain Power, LLC.

Description: Notice of Non-Material Change in Status of BIV Generation Company, L.L.C., et al.

Filed Date: 6/24/13.

Accession Number: 20130624-5071.

Comments Due: 5 p.m. ET 7/15/13.

Docket Numbers: ER10-2794-013; ER10-2849-012; ER11-2028-013 ER12-1825-011; ER11-3642-011.

Applicants: EDF Trading North America, LLC, EDF Industrial Power Services (NY), LLC, EDF Industrial Power Services (IL), LLC, EDF Industrial Power Services (CA), LLC, Tanner Street Generation, LLC.

Description: Notice of Non-Material Change in Status of EDF Trading North America, LLC, et al.

Filed Date: 6/24/13.

Accession Number: 20130624-5112.

Comments Due: 5 p.m. ET 7/15/13.

Docket Numbers: ER10-2848-001; ER11-1939-003; ER11-2754-003; ER12-999-001; ER12-1002-001; ER12-1005-001; ER12-1006-001; ER12-1007-002.

Applicants: AP Holdings, LLC, AP Gas & Electric (PA), LLC, AP Gas & Electric (TX), LLC, AP Gas & Electric (MD), LLC,AP Gas & Electric (NJ), LLC,AP Gas & Electric (IL), LLC, AP Gas & Electric (OH), LLC, AP Gas & Electric (NY), LLC.

Description: Notification of Non-Material Change in Status of AP Holdings Subsidiaries.

Filed Date: 6/24/13.

Accession Number: 20130624-5045.

Comments Due: 5 p.m. ET 7/15/13.

Docket Numbers: ER10-2985-012; ER10-3049-013; ER10-3051-013.

Applicants: Champion Energy Marketing LLC, Champion Energy Services, LLC, Champion Energy, LLC.

Description: Notice of change in status of Champion Energy Marketing LLC, et al.

Filed Date: 6/24/13.

Accession Number: 20130624-5110.

Comments Due: 5 p.m. ET 7/15/13.

Docket Numbers: ER10-3226-001; ER10-3227-001.

Applicants: Great Bay Hydro Corporation, Great Bay Power Marketing, Inc.

Description: Notice of Non-Material Change in Status of Great Bay Hydro Corporation, et. al.

Filed Date: 6/24/13.

Accession Number: 20130624-5061.

Comments Due: 5 p.m. ET 7/15/13.

Docket Numbers: ER11-3962-001.

Applicants: City of Banning, California.

Description: Compliance Report to be effective N/A.

Filed Date: 6/24/13.

Accession Number: 20130624-5099.

Comments Due: 5 p.m. ET 7/15/13.

Docket Numbers: ER13-1749-000.

Applicants: AP Holdings, LLC.

Description: AP Holdings—Seller Category Filing to be effective 8/23/2013.

Filed Date: 6/24/13.

Accession Number: 20130624-5018.

Comments Due: 5 p.m. ET 7/15/13.

Docket Numbers: ER13-1750-000.

Applicants: AP Gas & Electric (PA), LLC.

Description: AP-PA—Seller Category Filing to be effective 8/23/2013.

Filed Date: 6/24/13.

Accession Number: 20130624-5020.

Comments Due: 5 p.m. ET 7/15/13.

Docket Numbers: ER13-1751-000.

Applicants: AP Gas & Electric (TX), LLC.

Description: AP-TX—Seller Category Filing to be effective 8/23/2013.

Filed Date: 6/24/13.

Accession Number: 20130624-5021.

Comments Due: 5 p.m. ET 7/15/13.

Docket Numbers: ER13-1752-000.

Applicants: AP Gas & Electric (MD), LLC.

Description: AP-MD—Seller Category Filing to be effective 8/23/2013.

Filed Date: 6/24/13.

Accession Number: 20130624-5022.

Comments Due: 5 p.m. ET 7/15/13.

Docket Numbers: ER13-1753-000.

Applicants: AP Gas & Electric (NJ), LLC.

Description: AP-NJ—Seller Category Filing to be effective 8/23/2013.

Filed Date: 6/24/13.

Accession Number: 20130624-5024.

Comments Due: 5 p.m. ET 7/15/13.

Docket Numbers: ER13-1754-000.

Applicants: AP Gas & Electric (IL), LLC.

Description: AP-IL—Seller Category Filing to be effective 8/23/2013.

Filed Date: 6/24/13.

Accession Number: 20130624-5025.

Comments Due: 5 p.m. ET 7/15/13.

Docket Numbers: ER13-1755-000.

Applicants: AP Gas & Electric (OH), LLC.

Description: AP-OH—Seller Category Filing to be effective 8/23/2013.

Filed Date: 6/24/13.

Accession Number: 20130624-5026.

Comments Due: 5 p.m. ET 7/15/13.

Docket Numbers: ER13-1756-000.

Applicants: AP Gas & Electric (NY), LLC.

Description: AP-NY—Seller Category Filing to be effective 8/23/2013.

Filed Date: 6/24/13.

Accession Number: 20130624-5027.

Comments Due: 5 p.m. ET 7/15/13.

Docket Numbers: ER13-1757-000.

Applicants: Duke Energy Carolinas, LLC.

Description: WCU PPA—RS 338 (2013) to be effective 7/2/2012.

Filed Date: 6/24/13.

Accession Number: 20130624-5059.

Comments Due: 5 p.m. ET 7/15/13.

Docket Numbers: ER13-1758-000.

Applicants: San Joaquin Cogen, LLC.

Description: Triennial & Tariff Revision to be effective 6/25/2013.

Filed Date: 6/24/13.

Accession Number: 20130624-5067.

Comments Due: 5 p.m. ET 7/15/13.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: June 24, 2013.
Nathaniel J. Davis, Sr.,
Deputy Secretary.

[FR Doc. 2013-15799 Filed 7-1-13; 8:45 am]

BILLING CODE 6717-01-P